NUCLEAR REGULATORY COMMISSION

[Docket Nos. 52-040 and 52-041; NRC-2009-0337]

Combined License Application for Turkey Point Nuclear Plant, Units 6 and 7

AGENCY: Nuclear Regulatory Commission.

ACTION: Supplemental environmental impact statement; issuance.

SUMMARY: The U.S. Nuclear Regulatory Commission (NRC) and the U.S. Army Corps of Engineers, Jacksonville District, are issuing a supplement to the final environmental impact statement (EIS), NUREG-2176, “Environmental Impact Statement for Combined Licenses (COL) for Turkey Point Nuclear Plant, Units 6 and 7.” Florida Power and Light Company (FPL) submitted an application for COLs to construct and operate two new nuclear power plants at its Turkey Point site near Homestead, Florida. This supplement to the final EIS considers and responds to 59 comment letters that were inadvertently not included in the final EIS.

DATES: The supplement to the final EIS is available as of December 2, 2016.

ADDRESSES: Please refer to Docket ID NRC-2009-0337, when contacting the NRC about the availability of information regarding this document. You may obtain publicly-available information related to this action by the following methods:

• Federal Rulemaking Web site: Go to http://www.regulations.gov and search for Docket ID NRC-2009-0337. Address questions about NRC dockets to Carol Gallagher; telephone: 301-415-3463; email: Carol.Gallagher@nrc.gov. For technical questions, contact the individual listed in the FOR FURTHER INFORMATION CONTACT section of this document.

• NRC'S Agencywide Documents Access and Management System (ADAMS): You may obtain publicly-available documents online in the ADAMS Public Documents collection at http://www.nrc.gov/reading-rm/adams.html. To begin the search, select “ADAMS Public Documents,” and then select “Begin Web-based ADAMS Search.” For problems with ADAMS, please contact the NRC's Public Document Room (PDR) reference staff at 1-800-397-4209, 301-415-4737, or by email to pdr.resource@nrc.gov. The supplement to the final EIS is available in ADAMS under Accession No. ML16335A219.

• NRC's PDR: You may examine and purchase copies of public documents at the NRC's PDR, Room O1-F21, One White Flint North, 11555 Rockville Pike, Rockville, Maryland 20852.

• Project Web site: The final EIS can be accessed online at the Turkey Point COL specific Web page at http://www.nrc.gov/reactors/new-reactors/col/turkey-point.html.

• South Dade Regional Library and Homestead Branch Library: The supplement final EIS is available for public inspection at 10750 SW 211th St., Cutler Bay, Florida 33189; and 700 N. Homestead Blvd., Homestead, Florida 33030.

FOR FURTHER INFORMATION CONTACT: Alicia Williamson Dickerson, Office of New Reactors, U.S. Nuclear Regulatory Commission, Washington, DC 20555-0001, telephone: 301-415-1878, email: Alicia.Williamson@nrc.gov.

SUPPLEMENTARY INFORMATION: The NRC issued NUREG-2176, “Environmental Impact Statement for Combined Licenses (COLs) for Turkey Point Nuclear Plant, Units 6 and 7,” on October 28, 2016 (ADAMS Accession No. ML16335A219). On November 2, 2016, the NRC published a Federal Register notice (81 FR 76392) to announce the availability of the final EIS. After publication of the final EIS on October 28, 2016, however, the NRC identified 59 comment letters that were received before the draft EIS comment period closed but which were inadvertently not included in Appendix E to the final EIS.

The NRC staff considered all 59 comment letters and determined that none of them provides new and significant information regarding the project or its environmental impacts. In evaluating the comments in the letters, the staff determined that it had already addressed the majority of comments by responding to other similar comments in Appendix E to the final EIS. In developing a document to respond to the comments in the letters not included in the final EIS, the staff concluded that, for public access and readability, the most effective method for documenting the staff responses would include reprinting the applicable existing responses in Appendix E. The staff also recognized that responses drawn from the final EIS (including existing responses in Appendix E) would be warranted if an existing response did not explicitly address a comment. Accordingly, the NRC staff is of the opinion that issuance of a supplement under the unique circumstances present here—primarily the length of the document due to the repetition of existing text from the final EIS for clarity and readability—will enhance the transparency of the NRC process for implementing the National Environmental Policy Act of 1969, as amended (NEPA) and will further the purposes of NEPA. Therefore, the NRC staff has prepared Supplement 1 to NUREG-2176 in accordance with section 51.92(c) of title 10 of the Code of Federal Regulations (10 CFR). This supplement solely responds to comments previously submitted on the draft EIS. Because there are no changes to the proposed action and the comments do not provide new and significant information relevant to environmental concerns bearing on the proposed action or its impacts, 10 CFR 51.92(f) does not require the NRC to solicit comments on the supplement.

The final EIS summarizes the results of the review team's environmental analysis of the FPL COL application for compliance with the requirements of 10 CFR part 51. On the basis of the information contained in the final EIS and this supplement, the review team finds that the comment letters not included in the final EIS did not provide information that would change the analysis in the final EIS or the NRC staff's recommendation to the Commission that the COLs be issued as proposed. This recommendation is based on (1) the application, including the Environmental Report (ER), submitted by FPL; (2) consultation with Federal, State, Tribal, and local agencies; (3) the review team's independent review; (4) consideration of public comments received on the environmental review; and (5) the assessments summarized in the EIS and this supplement, including the potential mitigation measures identified in the ER and the EIS.

Dated at Rockville, Maryland, this 8th day of December, 2016.
For the Nuclear Regulatory Commission.
Francis Akstulewicz,
Director, Division of New Reactor Licensing, Office of New Reactors.

[FR Doc. 2016-30154 Filed 12-14-16; 8:45 am]

BILLING CODE 7590-01-P